DEPARTMENT OF THE INTERIOR

National Park Service

Notice of Transfer of an Easement From the City of Philadelphia, Through Its Fairmount Park Commission, to the United States of America for the Management of Washington Square as an Addition to Independence National Historical Park

AGENCY: National Park Service, Interior.

ACTION: Notice of property transfer.

SUMMARY: Under the conditions of the Memorandum of Understanding (MU-SECY-1-9001), an easement for Washington Square as an addition to Independence National Historical Park has been conveyed from the City of Philadelphia, through its Fairmount Park Commission, to the United States of America for management by the National Park Service.

FOR FURTHER INFORMATION CONTACT: Dennis Reidenbach at 215-597-7120.

SUPPLEMENTARY INFORMATION: Memorandum of Understanding (MU-SECY-9001) of November 25, 1991 provided that an easement would be conveyed from the City of Philadelphia through its Fairmount Park Commission to the United States of America for management of Washington Square as a part of Independence National Historical Park, after the completion of major capital improvements to bring the property to National Park Service Standards. The restoration, repair, and rehabilitation of Washington Square was determined to have been completed to the satisfaction of the Secretary of Interior. Following the completion of the required improvements, the City of Philadelphia through its Fairmount Park Commission by deed dated May 18, 2005 conveyed an easement to the United States of America acceptable to the Secretary of the Interior consisting of the right to protect, maintain and manage Washington Square in accordance with federal laws and regulations pertaining to units of the National Park System, including the right to allow and control public access to said site.

Dated: October 14, 2005.
Dennis R. Reidenbach,
Superintendent, National Park Service, Independence National Historical Park.

[Editorial Note: This document received at the Office of the Federal Register on June 8, 2006.]

[FR Doc. 06-5342 Filed 6-12-06; 8:45 am]

BILLING CODE 4312-29-M